DEPARTMENT OF LABOR

Employment and Training Administration

[TA-W-71,450]

Hewlett Packard Company, Imaging and Printing Group, World Wide Product Data Management Operations, Including On-Site Leased Workers From Manpower Professional, Now Known As Experis, Boise, IH; Amended Certification Regarding Eligibility To Apply for Worker Adjustment Assistance

In accordance with Section 223 of the Trade Act of 1974, as amended (“Act”), 19 U.S.C. 2273, the Department of Labor issued a Certification of Eligibility to Apply for Worker Adjustment Assistance on May 11, 2010, applicable to workers of Hewlett Packard Company, Imaging and Printing Group, World Wide Products Data Management Operations, Boise, Idaho and Fort Collins, Colorado. The workers developed, prototyped and tested hardware, firmware, and software. The notice was published in the Federal Register on May 28, 2010 (75 FR 30067).

At the request of the State agency, the Department reviewed the certification for workers of the subject firm. The company reports that workers leased from Manpower Professional, now known as Experis, were employed on-site at the Boise, Idaho location of Hewlett Packard Company, Imaging and Printing Group, World Wide Product Data Management Operations. The Department has determined that these workers were sufficiently under the control of Hewlett Packard Company, Imaging and Printing Group, World Wide Product Data Management Operations to be considered leased workers.

Based on these findings, the Department is amending this certification to include workers leased from Manpower Professional, now known as Experis, working on-site at the Boise, Idaho location of Hewlett Packard Company, Imaging and Printing Group, World Wide Product Data Management Operations.

The amended notice applicable to TA-W-71,450 is hereby issued as follows:

All workers of Hewlett Packard Company, Imaging and Printing Group, World Wide Product Data Management Operations, including on-site leased workers from Manpower Professional, now known as Experis, Boise, Idaho (TA-W-71,450), and Hewlett Packard Company, Imaging and Printing Group, World Wide Product Data Management Operations, Fort Collins, Colorado (TA-W-71,450A), who became totally or partially separated from employment on or after June 24, 2008, through May 11, 2012, and all workers in the group threatened with total or partial separation from employment on the date of certification through May 11, 2012, are eligible to apply for adjustment assistance under Chapter 2 of Title II of the Trade Act of 1974, as amended.

Signed in Washington, DC this 22nd day of July, 2011.
Michael W. Jaffe,
Certifying Officer, Office of Trade Adjustment Assistance.

[FR Doc. 2011-19578 Filed 8-2-11; 8:45 am]

BILLING CODE 4510-FN-P